MERIT SYSTEMS PROTECTION BOARD

Agency Information Collection Activities; Proposed Collection

AGENCY: Merit Systems Protection Board (MSPB).

ACTION: Notice.

SUMMARY: The U.S. Merit Systems Protection Board is requesting approval from the Office of Management and Budget (OMB) to conduct employee surveys for a period of three years from the approval date. Before submitting the Information Collection Request (ICR) to OMB for review and approval, MSPB is soliciting comments on specific aspects of the information collection in accordance with the Paperwork Reduction Act of 1995 (44 U.S.C. 3506(c)(2)(A)). In this regard, we are soliciting comments on the public reporting burden. The reporting burden for the collection of information on this form is estimated to average 30 minutes per respondent, including time for reviewing instructions and completing the survey. In addition, the MSPB invites comments on (1) Whether the proposed collection of information is necessary for the proper performance of MSPB's functions, including whether the information will have practical utility; (2) the accuracy of MSPB's estimate of burden of the proposed collection of information, including the validity of the methodology and assumptions used; (3) ways to enhance the quality, utility, and clarity of the information to be collected; and (4) ways to minimize the burden of the collection of information on respondents, including through the use of automated collection techniques, when appropriate, and other forms of information technology.

DATES: According to the procedures prescribed in 5 CFR 1320.10, MSPB plans to submit an ICR to OMB for review and approval following the 60 day comment period. Comments must be received on or before January 31, 2007.

ADDRESSES: You may submit comments via any of the following methods:

E-mail: anne.marrelli@mspb.gov. Please Include “Employee Surveys” in the subject line of the message. Fax: (202) 653-7211. Mail: Dr. Anne Marrelli, U.S. Merit Systems Protection Board, Room 515, 1615 M St., NW., Washington, DC 20419.

FOR FURTHER INFORMATION CONTACT: For information on the survey questions, contact Anne Marrelli by phone on 202-653-6772, ext. 1341, by FAX on 202-653-7211, or by e-mail anne.marrelli@mspb.gov. You may contact Dr. Marrelli via V/TDD at 1-800-877-8339.

SUPPLEMENTARY INFORMATION:

Proposed Project: “Merit Principles Survey”

As part of its purpose, MSPB is responsible for conducting studies of the Federal civil service to ensure that all Federal government agencies follow merit systems practices and avoid prohibited personnel practices. To support this research agenda, MSPB periodically conducts surveys of samples of Federal employees. To obtain insight into employees' current perspectives, MSPB requests approval to conduct additional surveys over the next three years.

The surveys will ask employees to share their perceptions of the implementation of the merit system in the workplace including topics such as agency and work unit performance, job satisfaction, compensation and rewards, fair treatment, performance management, training and development, and leadership.

Burden Statement: The annual public reporting and record keeping burden for this collection of information is estimated to average 0.50 hours per respondent.

Respondents/Affected Entities: Participants are selected via stratified random sampling to facilitate a representative sample of Federal employees.

Estimated Number of Respondents: 80,000.

Frequency of Response: Once.

Estimated Total Annual Hour Burden: 40,000.

Dated: November 20, 2006.
Bentley M. Roberts, Jr.,
Clerk of the Board.

[FR Doc. E6-19914 Filed 11-24-06; 8:45 am]

BILLING CODE 7401-01-P